DEPARTMENT OF JUSTICE

[OMB Number 1123-0014]

Agency Information Collection Activities; Proposed eCollection eComments Requested; New Collection

AGENCY: Office of the Pardon Attorney, Department of Justice.

ACTION: Notice.

SUMMARY: The Office of the Pardon Attorney, Department of Justice, is submitting the following information collection request to the Office of Management and Budget (OMB) for review and approval in accordance with the Paperwork Reduction Act of 1995.

DATES: The Department of Justice encourages public comment and will accept input until April 3, 2023.

FOR FURTHER INFORMATION CONTACT: If you have additional comments especially on the estimated public burden or associated response time, suggestions, or need a copy of the proposed information collection instrument with instructions or additional information, please contact: Kira Gillespie, Deputy Pardon Attorney, Office of the Pardon Attorney, 950 Pennsylvania Avenue NW, Main Justice—RFK Building, Washington, DC 20530; kira.gillespie@usdoj.gov; (202) 616-6073.

SUPPLEMENTARY INFORMATION: Written comments and suggestions from the public and affected agencies concerning the proposed collection of information are encouraged. Your comments should address one or more of the following four points:

—Evaluate whether the proposed collection of information is necessary for the proper performance of the functions of the Office of the Pardon Attorney, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of the Information Collection

1. Type of Information Collection: New Collection.

2. The Title of the Form/Collection: Application for Certificate of Pardon for Simple Marijuana Offense.

3. The agency form number, if any, and the applicable component of the Department sponsoring the collection: There is no agency form number for this collection. The applicable component within the Department of Justice is the Office of the Pardon Attorney.

Affected public who will be asked or required to respond, as well as a brief abstract:

The President issued a Proclamation on Granting Pardon for the Offense of Simple Possession Marijuana (Proclamation) on October 6, 2022. In that proclamation, he directed the Attorney General, acting through the Pardon Attorney, to develop procedures to “administer and effectuate the issuance of certificates of pardon to eligible applicants . . . . as soon as reasonably practicable.” The Proclamation specifically commands the Pardon Attorney to “develop and announce application procedures.”

Accordingly, the Pardon Attorney has developed the subject form to collect information from potential pardon recipients. The application asks applicants to confirm that the petitioner is U.S. citizen or lawful permanent resident who was lawfully in the country at the time the marijuana offense occurred; the alien registration or citizenship number of a lawful permanent resident or naturalized citizen applicant; information regarding the specific court in which the applicant was charged or convicted and the date of said conviction, if any; information regarding the applicant's race, gender, and ethnicity; identifying information regarding the applicant's date and place of birth; and documentation of the applicant's charge or convictions.

Abstract: The information collected from the Certificate Application will primarily be used to determine whether the applicant qualifies for pardon under the terms of the Proclamation. The information may also be used to provide statistical analysis of the demographics of pardon recipients and applicants.

4. An estimate of the total number of respondents and the amount of time estimated for an average respondent to respond: Although the number of persons who may qualify for pardon under the terms of this Proclamation is currently unknowable, the Office of the Pardon Attorney estimate that a potential pool of at least 20,000 applicants may apply. The application for the certificate is simple, and will not take long to complete, between 10 and 30 minutes. The applicants must also provide proof of their prior convictions or charges, which we estimate would take anywhere between 10 minutes to two hours of effort, including research, phone calls, and conversations with necessary personnel to attain the appropriate documentation. Therefore, the Pardon Attorney estimates that it would take approximately 20 minutes, but likely no longer than 2.5 hours per individual to provide the information necessary for the collection.

5. An estimate of the total public burden (in hours) associated with the collection: Considering the above projected figures, the low-end estimate would be 20,000 × 20 minutes = 400,000 minutes, or approximately 6,667 hours of total burden on the public. The high-end estimate is 20,000 × 2.5 hours = 50,000 hours of total burden on the public.

If additional information is required contact: John R. Carlson, Department Clearance Officer, United States Department of Justice, Justice Management Division, Policy and Planning Staff, Two Constitution Square, 145 N Street NE, 4W-218, Washington, DC 20530.

Dated: February 3, 2023.
John R. Carlson,
Department Clearance Officer for PRA, U.S. Department of Justice.

[FR Doc. 2023-03639 Filed 3-2-23; 8:45 am]

BILLING CODE 4410-29-P